DEPARTMENT OF AGRICULTURE

Foreign Agricultural Service

Agricultural Policy Advisory Committee and the Agricultural Technical Advisory Committees for Trade; Nominations

AGENCY: Foreign Agricultural Service, USDA.

ACTION: Notice and request for nominations.

SUMMARY: On June 9, 2011 the Secretary of Agriculture (Secretary), and the United States Trade Representative (USTR), renewed the charters of the Agricultural Policy Advisory Committee (APAC) and the six Agricultural Technical Advisory Committees (ATACs) for Trade for a 4-year term to expire on June 9, 2015. The APAC provides advice on the operation of various existing U.S. trade agreements and on negotiating objectives for new trade agreements, as well as other matters arising from the administration of U.S. trade policy. The ATACs provide advice and information regarding trade issues that affect both domestic and foreign production in the commodities of the respective sector, drawing upon the technical competence and experience of the members. Some appointments were made to these committees on September 8, 2011. The Foreign Agricultural Service (FAS) seeks to add additional members in order to begin to stagger membership terms and is requesting nominations for persons to serve on these seven committees.

DATES: Appointments will be made periodically as appropriate to establish staggered terms. For that reason, nominations will be accepted on an ongoing basis.

ADDRESSES: All nomination materials should be mailed in a single, complete package and sent to: Thomas J. Vilsack, Secretary, U.S. Department of Agriculture, 1400 Independence Avenue, SW., Washington, DC 20250, Attn: APAC/ATACs.

FOR FURTHER INFORMATION CONTACT: The Office of Agreements and Scientific Affairs may be reached by telephone at (202) 720-6219; with inquiries directed to Bob Spitzer or Steffon Brown: or by fax at (202) 720-0340. E-mail may be sent to Bob.Spitzer@fas.usda.gov or Steffon.Brown@fas.usda.gov. Mail may be addressed to the Office of Agreements and Scientific Affairs, Foreign Agricultural Service, U.S. Department of Agriculture, Stop 1040, 1400 Independence Ave., SW., Washington, DC 20250-1001.

SUPPLEMENTARY INFORMATION:

Introduction

The APAC and the ATACs are authorized by sections 135(c)(1) and (2) of the Trade Act of 1974, as amended (Pub. L. 93-618, 19 U.S.C. 2155). The purpose of these committees is to advise the Secretary and USTR concerning agricultural trade issues and policy. The committees are intended to ensure that representative elements of the private sector have an opportunity to express their views to the U.S. Government. On June 9, 2011, the Secretary and USTR renewed the charters of the APAC and the following six ATACs:

• Animals and Animal Products;

• Fruits and Vegetables;

• Grains, Feed, Oilseeds and Planting Seeds;

• Processed Foods;

• Sweeteners and Sweetener Products; and,

• Tobacco, Cotton and Peanuts.

Background

In 1974, Congress established a private sector advisory committee system to ensure that U.S. trade policy and negotiation objectives adequately reflect U.S. commercial and economic interests.

As provided for in the law and the USDA charter, the APAC has the following responsibilities: (A) The Committee will advise, consult with, and make recommendations to the Secretary and USTR concerning the trade policy of the United States and the matters arising in the administration of such policy; (B) The Committee will provide information and advice regarding the following: negotiating objectives and bargaining positions of the United States before the United States enters into trade agreements, the operation of any trade agreement once entered into, and matters arising in connection with the administration of the trade policy of the United States. It will keep abreast of the ongoing work of the technical-level committees (ATACs); (C) The Committee will furnish such other advisory opinions and reports as the Secretary and USTR deem necessary.

As provided for in the law and the USDA charters, the ATACs have the following responsibilities: (A) The Committees will advise, consult with, and make recommendations to the Secretary and USTR on matters that are of mutual concern to the United States and to its consumers, producers, processors, and traders of commodities of their respective sectors in connection with the trade policy activities undertaken by the United States. (B) The Committees will provide advice and information regarding trade issues that affect both domestic and foreign production and trade concerning commodities in their respective sectors. The Committees will furnish advisory opinions and reports regarding trade policy as requested by the Secretary and USTR, or their designees.

General Committee Information

Each committee has a chairperson, who is elected from the membership of that committee. Committees meet as needed, and all committee meetings are held in Washington, DC or by telephone conference. Committee meetings may be closed if USTR determines that a committee will be discussing issues that justify closing a meeting or portions of a meeting, in accordance with 19 U.S.C. 2155(f). Throughout the year, members are requested to review sensitive trade policy information and provide comments regarding trade negotiations. In addition to their other advisory responsibilities, at the conclusion of negotiations of any trade agreement, all committees are required to provide a report on each agreement to the President, Congress, and USTR.

Committee Membership Information

All committee members are appointed by, and serve at the discretion of the Secretary and the USTR. Committee appointments are typically for a period of approximately 4 years, but the Secretary and USTR may renew an appointment for an additional term. All committee members must be a U.S. citizen and must represent a U.S. entity with an interest in agricultural trade, and must not be registered with the Department of Justice under the Foreign Agents Registration Act.

Committee members must not be federally-registered lobbyists. To attend most meetings, committee members must have a current security clearance. New members will be guided in how to apply for a security clearance and their appointment will be contingent on successful completion of the investigation. Committee members serve without compensation and are not reimbursed for their travel expenses. No person may serve on more than one USDA advisory committee at the same time unless a specific exception is granted by the USDA Committee Management Officer. No entity may have more than one representative on any single trade advisory committee.

Nominations and Appointment of Members

Nominations for APAC and ATAC membership are open to individuals representing U.S. entities with an interest in agricultural trade without regard to race, color, religion, sex, national origin, age, mental or physical handicap, marital status, or sexual orientation. Equal opportunity practices in accordance with the U.S. Government policies will be followed in all appointments to the Committee. To ensure that the recommendations of the Committee have taken into account the needs of the diverse groups served by USDA, membership shall include to the extent possible, individuals with demonstrated ability to represent minorities, women, and persons with disabilities.

Members should have expertise and knowledge of agricultural trade as it relates to policy and commodity specific issues. Members will normally come from entities with an interest in agriculture, and will serve as Representatives, presenting the views and interests of U.S. entities that have interests in the subject matters of the committee. However, should a member be appointed primarily for his or her expertise, and not solely as a representative of an interest group, he or she shall be designated as a Special Government Employee. Special government employees (SGEs) are subject to ethics laws if they are appointed because of their personal knowledge, background, or expertise. USDA will assist SGEs in disclosing their financial interest and will provide ethics training on an annual basis. Appointments are made of individuals only and are not transferrable. No person, company, producer, farm organization, trade association, or other entity has a right to membership on a committee. In making appointments, every effort will be made to maintain balanced representation on the committees with representation from producers, farm and commodity organizations, processors, traders, and consumers. Geographical balance on each committee will also be sought.

Nominations: Nominating a person to serve on any of the committees requires submission of a current resume for the nominee and the following form: AD-755 (Advisory Committee Membership Background Information, OMB Number 0505-0001), available on the Internet at: http://www.fas.usda.gov/itp/apac-atacs/advisorycommittees.asp. A cover letter should also be submitted indicating the specific committee for which the individual is being nominated, why the nominee wants to be a committee member, his or her qualifications for membership, and how the submitter learned about this call for nominations. The cover letter should also include the statements required below related to Federally Registered Lobbyists and Foreign Firms. Forms may also be requested by sending an e-mail to Steffon.Brown@fas.usda.gov, or by phone at (202) 720-6219.

Federally Registered Lobbyists: In order to be considered for advisory committee membership, nominees should submit an affirmative statement that the applicant is not a federally registered lobbyist, and that the applicant understands that if appointed, the applicant will not be allowed to continue to serve as an advisory committee member should they become a federally registered lobbyist.

Foreign Firms: If the nominee is to represent an entity or corporation with ten percent or greater non-U.S. ownership, the nominee must state the extent to which the organization or interest to be represented by the nominee is owned by non-U.S. citizens, organizations, or interests and demonstrate at the time of nomination that this ownership interest does not constitute control and will not adversely affect his or her ability to serve as an advisor on the U.S. agriculture advisory committee for trade.

Dated: October 12, 2011.
Suzanne E Heinen,
Acting Administrator, Foreign Agricultural Service.

[FR Doc. 2011-26975 Filed 10-18-11; 8:45 am]

BILLING CODE 3410-10-P